DEPARTMENT OF VETERANS AFFAIRS

[OMB Control No. 2900-0867]

Agency Information Collection Activity: Health Eligibility Center (HEC) Income Verification (IV) Forms

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before June 17, 2025.

ADDRESSES: Comments must be submitted through www.regulations.gov.

FOR FURTHER INFORMATION CONTACT:

Program-Specific information: Rebecca Mimnall, 202-695-9434, vhacopra@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Health Eligibility Center (HEC) Income Verification (IV) Forms (VA Forms 10-301, 10-302, 10-303 and 10-304).

OMB Control Number: 2900-0867. https://www.reginfo.gov/public/do/PRASearch (Once at this link, you can enter the OMB Control Number to find the historical versions of this Information Collection).

Type of Review: Revision of a currently approved collection.

Abstract: VHA Directive 1909 provides policy for the VA Health Eligibility Center (HEC) Income Verification (IV) Program under authority of 38 United States Code (U.S.C.) 1722; 38 U.S.C. 5317. Title 38 U.S.C. 1722 established eligibility assessment procedures, based on income levels, for determining whether nonservice-connected (NSC) Veterans and non-compensable zero percent service-connected (SC) Veterans, who have no other special eligibility, are eligible to receive VA health care at no cost. Title 26 U.S.C. 6103 (l)(7) of the Internal Revenue Code and 38 U.S.C. 5317 establish authority for VA to verify Veterans' gross household income information against records maintained by the Internal Revenue Service (IRS) and Social Security Administration (SSA) when that information indicates the Veteran is eligible for cost-free VA health care.

This information collection is necessary for HEC's Income Verification Division (IVD) to verify the income of Veterans and spouses. It consists of VA Forms 10-301, 10-302, 10-303 and 10-304. HEC IVD sends Veterans, and their spouses, individual letters and forms to confirm income information reported by IRS and SSA. HEC does not change the Veteran's copay status until information supplied by IRS and SSA has been independently verified, either by the Veteran or through appropriate due process procedures. This collection has been revised by removing VA Form 10-302A because all relevant information can be reported on VA Form 10-302. There is a reduction in the burden hours due to the removal of VA Form 10-302A from the collection.

Affected Public: Individuals and households.

Estimated Annual Burden: Total hours = 48,338 hours.

10-301—27,948 hours.

10-302—5,679 hours.

10-303—42 hours.

10-304—14,669 hours.

Estimated Average Burden per Respondent:

10-301—30 minutes.

10-302—20 minutes.

10-303—15 minutes.

10-304—20 minutes.

Frequency of Response: Once annually.

Estimated Number of Respondents: Total Respondents = 117,109.

10-301—55,896.

10-302—17,038.

10-303—167.

10-304—44,008.

Authority: 44 U.S.C. 3501 et seq.

Dorothy Glasgow,
Acting, VA PRA Clearance Officer, Office of Enterprise and Integration/Data Governance Analytics, Department of Veterans Affairs.

[FR Doc. 2025-06657 Filed 4-17-25; 8:45 am]

BILLING CODE 8320-01-P